SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) of 1995, 44 U.S.C. Chapter 35 requires federal agencies to publish a notice in the Federal Register concerning each proposed collection of information before submission to OMB, and to allow 60 days for public comment in response to the notice. This notice complies with that requirement.

DATES: Submit comments on or before February 22, 2016.

ADDRESSES: Send all comments to Cristina Flores, Associate Director of Public Engagement and Operations, Office of National Women's Business Council, Small Business Administration, 409 3rd Street, 5th Floor, Washington, DC 20416.

FOR FURTHER INFORMATION CONTACT: Cristina Flores, Associate Director of Public Engagement and Operations, Office of National Women's Business Council, cristina.flores@sba.gov, 202-205-6827, or Curtis B. Rich, Management Analyst, 202-205-7030, curtis.rich@sba.gov.

SUPPLEMENTARY INFORMATION: The objective of this study is to identify preliminary criteria for segmentation of the market of women entrepreneurs using initial criteria to define groups of entrepreneurs, probe issues of entrepreneurship risk, motivations, and expectations to inform the messaging about entrepreneurship to different segments. This request addresses the recruitment and data collection from women business owners who meet these criteria during 12 focus groups held once in three regions of the country.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

Title: Researching Women Entrepreneurs, Self-Limiting Perceptions, and Segmentation.

Description of Respondents: Women Entrepreneurs.

Form Number: N/A.

Total Estimated Annual Responses: 144.

Total Estimated Annual Hour Burden: 443.

Curtis B. Rich,
Management Analyst .

[FR Doc. 2015-32033 Filed 12-21-15; 8:45 am]

BILLING CODE 8025-01-P